DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Transshipment Requirements under the Western and Central Pacific Fisheries Convention (WCPFC).

OMB Control Number: 0648-0649.

Form Number(s): None.

Type of Request: Regular (extension of a currently approved information collection).

Number of Respondents: 214.

Average Hours per Response: Transshipment report, 1 hour; High Seas Transshipment or Emergency Transshipment and Notice of Entry or Exit for Eastern Special Management Area, 15 minutes each; Purse Seine Discard Report, 30 minutes; Daily Fish Aggregating Device Report, 10 minutes; Pre-trip Notification for Observer Placement, 1 minute.

Burden Hours: 2,350.

Needs and Uses: This request is for an extension of a currently approved information collection.

National Marine Fisheries Service (NMFS) has issued regulations under authority of the Western and Central Pacific Fisheries Convention Implementation Act (WCPFCIA; 16 U.S.C. 6901 et seq.) to carry out the obligations of the United States under the Convention on the Conservation and Management of Highly Migratory Fish Stocks in the Western and Central Pacific Ocean (Commission). The regulations include requirements for the owners and operators of U.S. vessels to: (1) Complete and submit a Pacific Transshipment Declaration form for each transshipment that takes place in the Convention Area of highly migratory species caught in the Convention Area, (2) submit notice to the WCPFC Executive Director containing specific information at least 36 hours prior to each transshipment on the high seas in the Convention Area, (3) in the event that a vessel anticipates a transshipment where an observer is required, provide notice to NMFS at least 72 hours before leaving port of the need for an observer, (4) submit a notice to the WCPFC Executive Director containing specific information six hours prior to entry or exit of the Eastern High Seas Special Management Area, (5) complete and submit a U.S. Purse Seine Discard form within 48 hours after any discard, and (6) submit a FAD Report within 24 hours at the end of each day that the vessel is on a fishing trip in the Convention Area.

The information collected from these requirements is used by NOAA and the Commission to help ensure compliance with domestic laws and the Commission's conservation and management measures, and are necessary in order for the United States to satisfy its obligations under the Convention.

Affected Public: Business or other for-profit institutions; individuals or households.

Frequency: On occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: October 26, 2015.
Sarah Brabson,
NOAA PRA Clearance Officer.

[FR Doc. 2015-27569 Filed 10-28-15; 8:45 am]

BILLING CODE 3510-22-P